DEPARTMENT OF STATE

[Public Notice: 10966]

Town Hall Meeting on Modernizing the Columbia River Treaty Regime

AGENCY: Department of State.

ACTION: Notice of meeting.

SUMMARY: The Department of State (Department) will hold a Town Hall meeting, co-hosted by the Northwest Power and Conservation Council (NWPCC), on December 16, 2019, in Richland, Washington, to discuss the modernization of the Columbia River Treaty (CRT) regime.

DATES: The meeting will be held on December 16, 2019, from 5:30 p.m. to approximately 7:00 p.m., Pacific Standard Time.

ADDRESSES: The meeting will be held in the Auditorium of the U.S. Federal Building, 825 Jadwin Ave., Richland, WA 99352.

FOR FURTHER INFORMATION CONTACT: Douglas D. Walker, Science and Technology Advisor, Office of Canadian Affairs, ColumbiaRiverTreaty@state.gov, 202-485-1883.

SUPPLEMENTARY INFORMATION: This Town Hall is part of the Department's public engagement on the modernization of the CRT regime. The meeting is open to the public, up to the capacity of the room. Attendees are advised to bring government-issued photo ID and to allow time for security screening to enter the federal building. Requests for reasonable accommodation should be made to the email listed above, on or before December 9, 2019. The Department will consider requests made after that date but might not be able to accommodate them. Information about the meeting, including call-in information, can be found at https://www.state.gov/p/wha/ci/ca/topics/c78892.htm or by emailing the email address listed above.

Laura A. Lochman,
Director, Office of Canadian Affairs, Department of State.

[FR Doc. 2019-26007 Filed 11-29-19; 8:45 am]

BILLING CODE 4710-29-P